DEPARTMENT OF THE INTERIOR

Bureau of Land Management

[LLNMP02000. L14300000.ES0000; NMNM-130294; NMNM-130295]

Notice of Realty Action: Classification for Lease and Subsequent Conveyance for Recreation and Public Purposes of Public Land for an Elementary School and Middle School, Eddy County, NM

AGENCY: Bureau of Land Management, Interior.

ACTION: Notice of Realty Action.

SUMMARY: The Bureau of Land Management (BLM) has examined and found suitable for classification for lease and subsequent conveyance under the provisions of the Recreation and Public Purposes (R&PP) Act, as amended, approximately 81.2 acres of public land in Carlsbad, Eddy County, New Mexico. The Carlsbad Municipal School District proposes to use the land for a kindergarten to fifth grade elementary school and a sixth to eighth grade middle school.

DATES: Interested parties may submit written comments regarding the proposed classification of the land for lease and subsequent conveyance of the land, and the environmental assessment, until October 15, 2013.

ADDRESSES: Send written comments to the BLM Field Manager, Carlsbad Field Office, 620 East Greene, Carlsbad, NM 88220.

FOR FURTHER INFORMATION CONTACT: Tessa Cisneros, 575-234-5980, or tcisnero@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Carlsbad Municipal School District has filed an application to develop the following described land as two schools with related facilities near the intersection of North Canal Street and Plum Lane and the intersection of Camp Avenue and Osborne Road in the northern area of Carlsbad. The parcels of public land are legally described as:

New Mexico Principal Meridian

T. 21 S., R. 26 E.,

sec. 24, lot 6;

sec. 26, lot 1.

The area described contains 81.2 acres, more or less, in Eddy County.

Facilities of the schools include classrooms, gymnasiums, parking lots, etc. The middle school will also include a football field, baseball field, and tennis court. Enrollment is expected to be about 600 students per school. Each school requires about 40 acres located in separate locations. Growth in the northern area of Carlsbad has put a burden on the capacity of elementary and middle schools. Future plans to increase the apartments, town houses, and housing in the area create a need for larger school facilities to accommodate the continued growth of the area. Additional detailed information pertaining to this application, plan of development, and site plan is in case files NMNM-130294 and NMNM-130295, which are located in the BLM Carlsbad Field Office at the above address. Environmental documents associated with this proposed action are available for review at the BLM Carlsbad Field Office, and on the Web at: www.blm.gov/nm/st/fo/cfo/blm_information/nepa.html.

The land is not required for any Federal purpose. The lease and subsequent conveyance are consistent with the BLM Carlsbad Resource Management Plan approved September 1988, and would be in the public interest. The Carlsbad Municipal School District is a political subdivision of the State of New Mexico, a qualified applicant under the R&PP Act, has not applied for more than the 640-acre limitation for public purpose uses in a year, and has submitted a statement in compliance with the regulations at 43 CFR 2741.4(b).

The lease and subsequent conveyance of the public land shall be subject to valid existing rights. Subject to limitations prescribed by law and regulations, prior to patent issuance, a holder of any right-of-way within the lease area may be given the opportunity to amend the right-of-way for conversion to a new term, including perpetuity, if applicable.

The lease and subsequent conveyance, if and when issued, will be subject to provisions of the R&PP Act and applicable regulations of the Secretary of the Interior, and will contain the following terms, conditions, and reservations to the United States:

1. A right-of-way thereon for ditches or canals constructed by the authority of the United States, Act of August 30, 1890 (43 U.S.C. 945);

2. All minerals shall be reserved to the United States, together with the right to prospect for, mine, and remove such deposits from the same under applicable law and such regulations as the Secretary of the Interior may prescribe;

3. All valid existing rights;

4. Oil and gas lease NMNM 35602 issued to Marigold LLLP, Rio Pecos Corporation, Santo Legado LLLP, Sharbro Energy LLC, Sharbro Oil Limited Co, Tulipan LLC, Mark D. Wilson, and Yates Industries LLC, their successors or assigns, pursuant to the Act of February 25, 1920 (30 U.S.C. 181);

5. Natural gas lease NMNM 87892 issued to Yates Petroleum Corporation, its successors or assigns, pursuant to the Act of February 25, 1920 (30 U.S.C. 181);

6. Natural gas lease NMNM 91006 issued to Yates Petroleum Corporation, its successors or assigns, pursuant to the Act of February 25, 1920 (30 U.S.C. 181);

7. An appropriate indemnification clause protecting the United States from claims arising out of the leasee's/patentee's use, occupancy, or occupations on the leased/patented lands. It will also contain any other terms and conditions deemed necessary and appropriate by the Authorized Officer.

Upon publication of this notice in the Federal Register, the land described above will be segregated from all other forms of appropriation under the public land laws, including the general mining laws, except for lease and/or subsequent conveyance under the R&PP Act and leasing under the mineral leasing laws.

Interested parties may submit written comments on the suitability of the land for two public schools. Comments on the classification are restricted to whether the land is physically suited for the proposal, whether the use will maximize the future use or uses of the land, whether the use is consistent with local planning and zoning, or if the use is consistent with State and Federal programs.

Interested parties may also submit written comments regarding the specific use proposed in the application and plan of development, and whether the BLM followed proper administrative procedures in reaching the decision to lease and/or convey under the R&PP Act.

Any adverse comments will be reviewed by the BLM New Mexico State Director, who may sustain, vacate, or modify this realty action. In the absence of any adverse comments, the decision will become effective on October 28, 2013.

Before including your address, phone number, email address, or other personal identifying information in your comment, you should be aware that your entire comment—including your personal identifying information—may be made publicly available at any time. While you can ask us in your comment to withhold your personal identifying information from public review, we cannot guarantee that we will be able to do so. Only written comments submitted to the Field Manager, BLM Carlsbad Field Office, will be considered properly filed.

Authority: 43 CFR 2741.5.

Michael Tupper,
Deputy State Director, Lands and Resources.

[FR Doc. 2013-21110 Filed 8-28-13; 8:45 am]

BILLING CODE 4310-FB-P